DEPARTMENT OF TRANSPORTATION

Federal Aviation Administration

Notice of Meeting of the National Parks Overflights Advisory Group Aviation Rulemaking Committee

ACTION: Notice of meeting.

SUMMARY: The Federal Aviation Administration (FAA) and the National Park Service, in accordance with the National Parks Air Tour Management Act of 2000, announce the next meeting of the National Parks Overflights Advisory Group Aviation Rulemaking Committee (NPOAG-ARC). This notice informs the public of the date, location, and agenda for the meeting.

DATES AND ADDRESSES: The NPOAG ARC will meet June 27-29, 2006, at the Radisson Hotel Fisherman's Wharf, 250 Beach Street, San Francisco, CA 94133. The meeting will begin at 8 a.m. on Tuesday, June 27, 2006.

FOR FURTHER INFORMATION CONTACT: Barry Brayer, Manager, Executive Resource Staff, Western Pacific Region, Federal Aviation Administration, 15000 Aviation Blvd., Hawthorne, CA 90250, telephone: (310) 725-3800, or Barry.Brayer@faa.gov, or Karen Trevino, National Park Service, Natural Sounds Program, 1201 Oakridge Dr., Suite 350, Ft. Collins, CO 80525, telephone (970) 225-3563, or Karen_Trevino@nps.gov.

SUPPLEMENTARY INFORMATION:

Background

The National Parks Air Tour Management Act of 2000, enacted on April 5, 2000, as Public Law 106-181 (Pub. L. 106-181), required the establishment of a National Parks Overflights Advisory Group (NPOAG) within 1 year after its enactment. The NPOAG was to be a balanced group representative of general aviation, commercial air tour operations, environmental concerns, and Indian tribes. The duties of the NPOAG included providing advice, information, and recommendations to the Director, NPS, and to the Administrator, FAA, on the implementation of Public Law 106-181, on quiet aircraft technology, on other measures that might accommodate interests to visitors to national parks, and, at the request of the Director and Administrator, on safety, environmental, and other issues related to commercial air tour operations over national parks or tribal lands.

On March 12, 2001, the FAA and NPS announced the establishment of the NPOAG (48 FR 14429). On October 10, 2003, the Administrator signed Order No. 1110-138 establishing the NPOAG as an aviation rulemaking committee. On January 20, 2006, the Administrator cancelled Order No. 1110.138 and signed Order No. 1110.138A. The advisory group has held eight meetings. The current members of the NPOAG ARC are Heidi Williams (general aviation), Richard Larew, Elling Halvorson, and Alan Stephen (commercial air tour operations), Don Barger, Chip Dennerlein, Charles Maynard and Mark Peterson (environmental interests), and Rory Majenty and Richard Deertrack (Native American tribes).

Agenda for the June 27-29, 2006 Meeting

The agenda for the meeting will include, but is not limited to, the following: Review and approval of previous meeting minutes; distribution of Government Accountability Office (GAO) reports on implementation of the Act and air tour fees; discussion of Interim Operating Authority (IOA) issues; update on ongoing ATMP projects; update on expedited/consensus ATMP project; staff presentation of a proposed programmatic ATMP process; discussion on the ATMP Program Implementation Plan; identification and treatment of quiet technology in ATMPs; NPOAG Subgroup assignments and reports; and, discussion of Mt. Rushmore Draft Environmental Assessment (EA).

Attendance at the Meeting

Although this is not a public meeting, interested persons may attend. Because seating is limited, if you plan to attend, please contact one of the persons listed under FOR FURTHER INFORMATION CONTACT so that meeting space may accommodate your attendance.

Record of the Meeting

If you cannot attend the meeting, a summary record of the meeting will be made available through the Executive Resource Staff, Western Pacific Region, Federal Aviation Administration, 15000 Aviation Blvd., Hawthorne, CA 90250, telephone: (310) 725-3800

Issued on May 23, 2006.
Barry Brayer,
Manager, Executive Resource Staff, Western Pacific Region.

[FR Doc. E6-8410 Filed 5-31-06; 8:45 am]

BILLING CODE 4910-13-P